DEPARTMENT OF COMMERCE

National Oceanic and Atmospheric Administration

[RTID 0648-XE469]

Mid-Atlantic Fishery Management Council (MAFMC); New England Fishery Management Council (NEFMC) Public Meeting

AGENCY: National Marine Fisheries Service (NMFS), National Oceanic and Atmospheric Administration (NOAA), Commerce.

ACTION: Notice; public meeting.

SUMMARY: The Mid-Atlantic Fishery Management Council's Ecosystem and Ocean Planning Committee and New England Fishery Management Council's Habitat Committee will hold a joint public meeting.

DATES: The meeting will be held on Wednesday, December 18, 2024, from 1 p.m. to 4 p.m. For agenda details, see SUPPLEMENTARY INFORMATION.

ADDRESSES: The meeting will be held via webinar. Webinar connection, agenda items, and any additional information will be available at both www.mafmc.org/council-events and https://www.nefmc.org/calendar.

Council addresses: Mid-Atlantic Fishery Management Council, 800 N. State Street, Suite 201, Dover, DE 19901; telephone: (302) 674-2331; www.mafmc.org.; New England Fishery Management Council, 50 Water Street, Mill 2, Newburyport, MA 01950; telephone: (978) 465-0492; www.nefmc.org.

FOR FURTHER INFORMATION CONTACT: Christopher M. Moore, Ph.D., Executive Director, Mid-Atlantic Fishery Management Council, telephone: (302) 526-5255 or Cate O'Keefe, Ph.D., Executive Director, New England Fishery Management Council; telephone: (978) 465-0492 (ext. 113).

SUPPLEMENTARY INFORMATION: The purpose of this joint meeting is for the Ecosystem and Ocean Planning Committee and Habitat Committee to provide recommendations regarding the Councils' Essential Fish Habitat (EFH) reviews and the draft EFH Review Reports being prepared for the Council. Because many of the EFH Review work products apply to the entire Northeastern US, the Committees are being convened jointly for their review. The Committees will receive an overview of the NMFS EFH Review requirements (10 components of an EFH review), and will review components related to (a) Non-Magnuson-Stevens Act fishing activities that may adversely affect EFH, (b) Non-fishing related activities that may adversely affect EFH, (c) Prey species for federally-managed fish species, (d) EFH research needs, and (e) Methods related to the description and identification of EFH.

Special Accommodations

The meeting is physically accessible to people with disabilities. Requests for sign language interpretation or other auxiliary aids should be directed to Shelley Spedden at the Council Office, (302) 526-5251, at least 5 days prior to the meeting date.

Authority: 16 U.S.C. 1801 et seq.

Dated: November 22, 2024.
Rey Israel Marquez,
Acting Deputy Director, Office of Sustainable Fisheries, National Marine Fisheries Service.

[FR Doc. 2024-27843 Filed 11-26-24; 8:45 am]

BILLING CODE 3510-22-P